DEPARTMENT OF THE INTERIOR

National Park Service

Notice of Inventory Completion: Peabody Museum of Archaeology and Ethnology, Harvard University, Cambridge, MA

AGENCY: National Park Service, Interior.

ACTION: Notice.

Notice is here given in accordance with the Native American Graves Protection and Repatriation Act (NAGPRA), 25 U.S.C. 3003, of the completion of an inventory of human remains and associated funerary objects in the possession of the Peabody Museum of Archaeology and Ethnology, Harvard University, Cambridge, MA. The human remains and associated funerary objects were removed from Barnstable, Bristol, Dukes, and Plymouth Counties, MA.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

A detailed assessment of the human remains and associated funerary objects was made by the Peabody Museum of Archaeology and Ethnology professional staff in consultation with representatives of the Wampanoag Repatriation Confederation, representing the Wampanoag Tribe of Gay Head (Aquinnah) of Massachusetts, Mashpee Wampanoag Indian Tribe (a nonfederally recognized Indian group), and Assonet Band of the Wampanoag Nation (a nonfederally recognized Indian group).

The human remains and associated funerary objects are described in this notice according to county and town, and site location when available.

BARNSTABLE COUNTY, MA.

Barnstable, MA.

In 1867, human remains representing one individual were removed from Barnstable, Barnstable County, MA, by J. Elliot Cabot and were donated to the Peabody Museum of Archaeology and Ethnology by Mr. Cabot in the same year. No known individual was identified. The three associated funerary objects are brass kettle fragments.

Osteological characteristics indicate that the individual is Native American. The interment most likely dates to the Historic/Contact period (post-A.D. 1500). The placement of European kettles as mortuary offerings was widespread among postcontact North American native groups. Oral tradition and historical documentation indicate that Barnstable, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1933, human remains representing one individual that were removed from Barnstable, Barnstable County, MA, were donated to the Peabody Museum of Archaeology and Ethnology by Edward Brooks. The human remains were removed at an unknown date by an unknown collector. No known individual was identified. The 33 associated funerary objects are 9 silver spoon fragments, 4 triangular Levanna-style arrowheads, 3 Levanna-style preforms, 1 piece of worked slate, 7 pieces of worked bone, 1 bone awl, 1 spatula-shaped bone implement, and 7 pieces of turtle shell.

Osteological characteristics indicate that the individual is Native American. The interment most likely dates to the Historic/Contact period (post-A.D. 1500). Based on examination, the associated silver spoon probably dates from A.D. 1650 to 1730. Oral tradition and historical documentation indicate that Barnstable, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1966, human remains representing one individual that were removed from Sandy Neck in Barnstable, Barnstable County, MA, were donated to the Peabody Museum of Archaeology and Ethnology by Sidney Callis through Edward Hunt. The human remains were removed by Mr. Callis in 1961. No known individual was identified. No associated funerary objects are present.

Osteological characteristics indicate that the individual is Native American. The interment most likely dates to the Late Woodland period or later (post-A.D. 1000). Museum documentation and published accounts indicate that Sandy Neck is a Late Woodland/Contact period site (A.D. 1000-1650). Shell-tempered pottery found on the site supports a Late Woodland and later date (post-A.D. 1000) in southern New England. Oral tradition and historical documentation indicate that Barnstable, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Bourne, MA.

In 1911, human remains representing three individuals were removed from the Grove Field Ossuary in Bourne, Barnstable County, MA, during a Peabody Museum of Archaeology and Ethnology expedition led by C.C. Willoughby. No known individuals were identified. No associated funerary objects are present.

Osteological characteristics indicate that the individuals are Native American. Published information indicates that the human remains most likely date from the Late Woodland to Historic/Contact periods (A.D. 1000-1500). A copper point found in the immediate vicinity of the Grove Field Ossuary confirms a postcontact date. Oral tradition and historical documentation indicate that Bourne, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Bournedale, MA.

In 1955, human remains representing two individuals that were removed from Bournedale, Barnstable County, MA, were donated to the Peabody Museum of Archaeology and Ethnology by W.K. Carter. The human remains were probably collected in 1880 by an unknown individual. No known individuals were identified. No associated funerary objects are present.

Osteological characteristics indicate that the individuals are Native American. A note included with the human remains states that they were discovered in an “old Indian burying ground beside Black Lake, Bournedale, Cape Cod, 1880.” The interments most likely date to the Historic/Contact period (post-A.D. 1500). The pattern of copper staining on some of the human remains from the site indicates that the human remains were interred some time after contact. Oral tradition and historical documentation indicate that Bournedale, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Chatham, MA.

In 1935, human remains representing 21 individuals were removed from the Bars Inn Farm on Morris Island in Chatham, Barnstable County, MA, after discovery by men working in the area. The human remains were given to Howard Nickerson, who donated them to the Peabody Museum of Archaeology and Ethnology in the same year. No known individuals were identified. The three associated funerary objects are ceramic sherds.

Osteological characteristics indicate that the individuals are Native American. The interments most likely date to the Late Woodland or Historic/Contact period (post-A.D. 1000). A report by Frederick Johnson, who excavated the site, describes finding wood, pottery, a carved bone implement, and red ochre associated with the human remains, all of which suggest a Late Woodland or later date. Oral tradition and historical documentation indicate that Chatham, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Chathamport, MA.

In 1940, human remains representing three individuals were removed from Chathamport, Barnstable County, MA, by James M. Andrews and Janet W. Raymond, who donated the human remains to the Peabody Museum of Archaeology and Ethnology in the same year. No known individuals were identified. No associated funerary objects are present.

Osteological characteristics indicate that the individuals are Native American. Museum documentation indicates that the human remains were discovered on the property of Mrs. Raymond, an area that was locally known as “Indian Burial Hill.” The interments most likely date to the Historic/Contact period (post-A.D. 1500). The pattern of copper stains on some of the human remains from the site indicates that the human remains were interred some time after contact. Oral tradition and historical documentation indicate that Chathamport, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Eastham, MA.

In 1935, human remains representing five individuals were removed from the Hemenway site in Eastham, Barnstable County, MA, during a Peabody Museum of Archaeology and Ethnology expedition led by Frederick Johnson. No known individuals were identified. No associated funerary objects are present.

Osteological characteristics indicate that the individuals are Native American. The interments most likely date to the Historic/Contact period (post-A.D. 1500). Objects that were recovered from the site but are not associated with the burials include paddle-marked and cord-marked pottery, rolled copper or brass beads, and an iron implement, all of which suggest a postcontact date. Oral tradition and historical documentation indicate that Eastham, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Hyannis, MA.

In 1949, human remains representing four individuals that were removed from Hyannis, Barnstable County, MA, were donated to the Peabody Museum of Archaeology and Ethnology by the Harvard University Department of Anthropology. The human remains were collected by K. Hall, Edward Hunt, Charles Shade, and R. Vidala at an unknown date. No known individuals were identified. The one associated funerary object is a fragmentary Iroquoian- or Niantic-style pottery vessel.

Osteological characteristics indicate that the individuals are Native American. The interments most likely date to the Late Woodland or Historic/Contact period (A.D. 1000-1650). The fragmentary Iroquoian- or Niantic-style pottery vessel found with some of the human remains suggests a Late Woodland or Historic/Contact date (A.D. 1000-1650). New England ceramics that are closely related to Iroquoian ceramic styles date to the Late Woodland and Historic/Contact period (A.D. 1000-1650 and later). Oral tradition and historical documentation indicate that Hyannis, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

North Truro, MA.

In 1891, human remains representing six individuals were removed from North Truro, Barnstable County, MA, during a Peabody Museum of Archaeology and Ethnology expedition led by M.H. Saville. No known individuals were identified. No associated funerary objects are present.

Osteological characteristics indicate that the individuals are Native American. The interment most likely dates to the Late Woodland period or later (post-A.D. 1000). According to museum documentation, objects that were recovered from the site but are not associated with the human remains include bone implements, pottery pipe fragments, shell-tempered pottery sherds, and Levanna-style projectile points, all of which support a Late Woodland or later date (post-A.D. 1000). Oral tradition and historical documentation indicate that North Truro, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1908, human remains representing two individuals that were removed from North Truro, Barnstable County, MA, were donated to the Peabody Museum of Archaeology and Ethnology by M.H. Saville. The human remains were removed in 1891 during a Peabody Museum of Archaeology and Ethnology expedition led by Mr. Saville. No known individuals were identified. No associated funerary objects are present.

Osteological characteristics indicate that the individuals are Native American. The interment most likely dates to the Late Woodland period or later (post-A.D. 1000). According to museum documentation, objects that were recovered from the site but are not associated with the human remains include bone implements, pottery pipe fragments, shell-tempered pottery sherds, and Levanna-style projectile points, all of which support a Late Woodland or later date (post-A.D. 1000). Oral tradition and historical documentation indicate that North Truro, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1936, human remains representing one individual that were removed from North Truro, Barnstable County, MA, were donated to the Peabody Museum of Archaeology and Ethnology by the Harvard Dental School. The human remains were collected by Frank R. Dickerman after they were discovered during railroad excavations in 1873. Mr. Dickerman gave the human remains to the Harvard Dental School. No known individual was identified. No associated funerary objects are present.

Osteological characteristics indicate that the individual is Native American. Museum documentation suggests that the interment most likely dates to the Historic/Contact period (post-A.D. 1500). A label found with the human remains states that the human remains are probably 200 years old. Oral tradition and historical documentation indicate that North Truro, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1956, human remains representing three individuals that were removed from the Old Colony Railroad site in North Truro, Barnstable County, MA, were found in the museum. The human remains were collected in 1891 during a Peabody Museum of Archaeology and Ethnology expedition led by M.H. Saville. No known individuals were identified. No associated funerary objects are present.

Osteological characteristics indicate that the individuals are Native American. The interments most likely date to the Late Woodland period or later (post-A.D. 1000). According to museum documentation, objects that were recovered from the site but are not associated with the human remains include bone implements, pottery pipe fragments, shell-tempered pottery sherds, and Levanna-style projectile points, all of which support a Late Woodland or later date (post-A.D. 1000). Oral tradition and historical documentation indicate that North Truro, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Sandwich, MA.

In 1908, human remains representing one individual were removed from Sandwich, Barnstable County, MA, by L.C. Jones, who donated them to the Peabody Museum of Archaeology and Ethnology in the same year. No known individual was identified. No associated funerary objects are present.

Osteological characteristics indicate that the individual is Native American. The interment most likely dates to the Historic/Contact period (post-A.D. 1500). Documentation provided by the collector notes that the human remains were buried with woven cloth and copper ornaments. The use of copper ornaments and textiles in burials suggests a date from the Historic/Contact period (post- A.D. 1500). Oral tradition and historical documentation indicate that Sandwich, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

South Truro, MA.

In 1950, human remains representing one individual that were removed from the Ryder Beach site in South Truro, Barnstable County, MA, were donated to the Peabody Museum of Archaeology and Ethnology by Ross Moffett, who removed the human remains in 1948. No known individual was identified. No associated funerary objects are present. Objects found at the site that are not in the possession of the Peabody Museum of Archaeology and Ethnology include shell-tempered pottery, a dog burial, Levanna-style projectile points, and steatite pipe fragments.

Osteological characteristics indicate that the individual is Native American. The interment most likely dates to the Late Woodland period or later (post-A.D. 1000), based on the presence of shell-tempered pottery and Levanna-style projectile points. Oral tradition and historical documentation indicate that South Truro, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Yarmouth, MA.

In 1966, human remains representing 10 individuals were removed from the Purcell site in Yarmouth, Barnstable County, MA, by Frank Schambach and Howard Bailit. Nine of the individuals were donated to the Peabody Museum of Archaeology and Ethnology by Edmund Purcell in the same year. One individual was donated to the Peabody Museum of Archaeology and Ethnology by Mr. Schambach in 1968. No known individuals were identified. The 14 associated funerary objects are potsherds. According to museum documentation, objects that were associated with the human remains but are not in the possession of the Peabody Museum of Archaeology and Ethnology include bone points, felsite projectile points, and pottery.

Osteological characteristics indicate that the individuals are Native American. The interments most likely dates to the Late Woodland period (A.D. 1000-1500). Published documentation, as well as analysis of projectile points and pottery recovered from the site, both support a Late Woodland (A.D. 1000-1500) date. Oral tradition and historical documentation indicate that Yarmouth, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

BRISTOL COUNTY, MA.

Berkley, MA.

In 1968, human remains representing one individual were removed from the Bear Swamp site in Berkley, Bristol County, MA, by Arthur C. Staples and Roy C. Athearn of the Massachusetts Archaeological Society and were donated to the Peabody Museum of Archaeology and Ethnology by the Massachusetts Archaeological Society in 1969. No known individual was identified. No associated funerary objects are present.

Osteological characteristics indicate that the individual is Native American. Although the Bear Swamp site generally dates to the Late Archaic period (3000-1000 B.C.), the interment most likely dates to the Late Woodland period (A.D. 1000-1600). In a 1969 publication, the collectors concluded that this flexed burial is typical of Late Woodland period, rather than Late Archaic period, mortuary practices. Museum documentation indicates this interment was an intrusive Late Woodland burial in a Late Archaic site and was not associated with other Late Archaic features at Bear Swamp. Oral tradition and historical documentation indicate that Berkley, MA, is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Dartmouth, MA.

In 1922, human remains representing three individuals were removed from the Waldo Farm site, Dartmouth, Bristol County, MA, by an unknown collector and were donated to the Peabody Museum of Archaeology and Ethnology by John Lincoln Waldo in the same year. No known individuals were identified. No associated funerary objects are present.

In 1924, human remains representing 36 individuals were removed from the Waldo Farm and Cummings Farm sites, Dartmouth, Bristol County, MA, by H.L. Shapiro on behalf of the Peabody Museum of Archaeology and Ethnology. Museum documentation indicates that human remains representing 34 individuals were removed from the Waldo Farm site and human remains representing 2 individuals were removed from the nearby Cummings Farm site. No known individuals were identified. The two associated funerary objects are one container of fabric fragments and one wood fragment.

Osteological characteristics indicate that the individuals are Native American. The interments most likely date to the Historic/Contact period (post-A.D. 1500). According to historic sources and oral tradition, the Waldo Farm site is a known historic Christian Native American cemetery that most likely dates to the late 17th and early 18th centuries. The pattern of copper stains present on some of the human remains from both the Waldo Farm and Cummings Farm sites also suggests that the human remains were interred sometime after contact. Oral tradition and historical documentation indicate that Dartmouth, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1932, human remains representing 26 individuals were removed from a cemetery near the Waldo Farm site in Dartmouth, Bristol County, MA, by J.M. Andrews and C.W. Dupertuis. Messrs. Andrews and Dupertius donated human remains representing 25 individuals to the Peabody Museum of Archaeology and Ethnology in the same year, and donated human remains representing 1 individual to the Peabody Museum of Archaeology and Ethnology in 1937. No known individuals were identified. No associated funerary objects are present.

Osteological characteristics indicate that the individuals are Native American. The interments most likely date to the Historic/Contact period (post-A.D. 1500). The pattern of copper stains on some of the human remains from the site suggests that the human remains were interred some time after contact. Oral tradition and historical documentation indicate that Dartmouth, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1956, human remains representing two individuals that were removed from Dartmouth, Bristol County, MA, were donated to the Peabody Museum of Archaeology and Ethnology by the Robert S. Peabody Museum of Archaeology, Phillips Academy, Andover, MA. The human remains were collected by Douglas S. Byers and Frederick Johnson, probably in 1955. No known individuals were identified. No associated funerary objects are present. According to museum documentation, objects associated with the burials that are not in the possession of the Peabody Museum of Archaeology and Ethnology include a whale bone spoon, a small obtuse-angle clay pipe, and a stone pestle. The whale bone spoon and the clay pipe are in the possession of the Robert S. Peabody Museum of Archaeology. The location of the stone pestle is unknown.

Osteological characteristics indicate that the individuals are Native American. The interments most likely date to the Historic/Contact period (post-A.D. 1500). Associated funerary objects that confirm a postcontact date are European-influenced spoons, as well as a ceramic pipe with bent stem, which is strongly identified in New England with the Late Woodland period and later (post-A.D. 1000). Oral tradition and historical documentation indicate that Dartmouth, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Westport Harbor, MA.

In 1924, human remains representing four individuals were removed from a gravel pit in Westport Harbor, Bristol County, MA, by H.L. Shapiro and were donated to the Peabody Museum of Archaeology and Ethnology by Mr. Wheeler of Westport Harbor in the same year. No known individuals were identified. No associated funerary objects are present.

Osteological characteristics indicate that the individuals are Native American. The interments most likely date to the Historic/Contact period (post-A.D. 1500). Copper stains on the human remains of one individual and erosion patterns on all of the human remains suggest that the individuals were likely buried in coffins, indicating that the individuals were interred sometime after contact. Oral tradition and historical documentation indicate that Westport Harbor, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

DUKES COUNTY, MA.

Chilmark, MA.

In 1912 and 1913, human remains representing 13 individuals were removed from Chilmark on Martha’s Vineyard, Dukes County, MA, during a Peabody Museum of Archaeology and Ethnology expedition. Ten individuals were removed in 1912 and three individuals were removed in 1913. The 1912 and 1913 expeditions were led by S.J. Guernsey. No known individuals were identified. No associated funerary objects are present.

Osteological characteristics indicate that the individuals are Native American. The interments most likely date to the Historic/Contact period (post-A.D. 1500). According to the S.J. Guernsey, this area of Chilmark was a known historic Native American burial ground. The presence of wrought-iron nails in the immediate surroundings of the burials suggests a postcontact date. Oral tradition and historical documentation indicate that Chilmark, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1964, human remains representing one individual that were removed from the vicinity of Menemsha Pond in Chilmark on Martha’s Vineyard, Dukes County, MA, were donated to the Peabody Museum of Archaeology and Ethnology by the Thomas Cooke House and Museum of the Duke County Historical Society. The human remains were removed by an unknown workman around 1956. No known individual was identified. No associated funerary objects are present.

Osteological characteristics indicate that the individual is Native American. The interment most likely dates to the Historic/Contact period (post-A.D. 1500). According to S.J. Guernsey, who undertook excavations in the same area in the summers of 1912 and 1913, this area of Chilmark was a known historic Native American burial ground. Mr. Guernsey recovered wrought-iron nails in the vicinity of the burial, which suggests a postcontact date for the interment. Oral tradition and historical documentation indicate that Chilmark, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Edgartown, MA.

In 1946, human remains representing two individuals were removed from Edgartown on Martha’s Vineyard, Dukes County, MA, by Burnham Litchfield, who donated the human remains to the Peabody Museum of Archaeology and Ethnology in the same year. No known individuals were identified. No associated funerary objects are present. According to museum documentation, glazed pottery that was possibly associated with the human remains is not in the possession of the Peabody Museum of Archaeology and Ethnology.

Osteological characteristics indicate that the individuals are Native American. The interments most likely date to the Historic/Contact period (post-A.D. 1500). In New England, glazed ceramics support a postcontact date. Oral tradition and historical documentation indicate that Edgartown, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Oak Bluffs, MA.

In 1916, human remains representing five individuals were removed from Woodsedge Farm in Oak Bluffs on Martha’s Vineyard, Dukes County, MA, by men working in the area and were donated to the Peabody Museum of Archaeology and Ethnology by Susan J. Chase in the same year. No known individuals were identified. No associated funerary objects are present.

Osteological characteristics indicate that the individuals are Native American. Museum documentation indicates that the interments most likely date to the Historic/Contact period (post- A.D. 1500). The source states that the human remains are of “modern Indians; not very old” and are probably of Wampanoag Indians. Oral tradition and historical documentation indicate that Oak Bluffs, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

PLYMOUTH COUNTY, MA.

Bridgewater, MA.

In 1949, human remains representing 16 individuals were removed from the Titicut site in Bridgewater, Plymouth County, MA, by members of the Warren King Moorhead Chapter of the Massachusetts Archaeological Society and were donated to the Peabody Museum of Archaeology and Ethnology in the same year. No known individuals were identified. No associated funerary objects are present. According to museum documentation, associated funerary objects that are not in the possession of the Peabody Museum of Archaeology and Ethnology include several brass or copper pendants, bone beads, copper beads, and bark blanket fragments.

Osteological characteristics indicate that the individuals are Native American. The interments most likely date to the Historic/Contact period (post-A.D. 1500). Associated funerary objects that confirm a postcontact date include copper and brass implements, and bark blanket fragments. Oral tradition and historical documentation indicate that Bridgewater, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1967, human remains representing 15 individuals were discovered by the Fernandez Construction Company in the vicinity of Atkinson Drive in Bridgewater, Plymouth County, MA, and were donated to the Peabody Museum of Archaeology and Ethnology by Dr. Peirce H. Leavitt, Plymouth County Medical Examiner, through Dr. Dena Dincauze, formerly of the Peabody Museum of Archaeology and Ethnology, in the same year. No known individuals were identified. The two associated funerary objects are one container with a shroud cloth and coffin fragments, and one container with coffin fragments, coffin nails, and soil.

Osteological characteristics indicate that the individuals are Native American. The site was explored by Dr. Dincauze, probably under the auspices of Plymouth County. At the time of excavation, Dr. Dincauze commented that the interments appeared to be those of Christian Indians and likely date to the 18th century. A postcontact date is confirmed by the presence of a shroud cloth, coffin fragments, and coffin nails. Oral tradition and historical documentation indicate that Bridgewater, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Hingham, MA.

In 1932, human remains representing eight individuals were removed from a construction site in Hingham, Plymouth County, MA, by an unknown collector and were donated to the Peabody Museum of Archaeology and Ethnology by Mayo Tolman in the same year. No known individuals were identified. No associated funerary objects are present.

Osteological characteristics indicate that one individual is of mixed Native American and Caucasian ancestry and seven individuals are Native American. The interments most likely date to the Historic/Contact period (post-A.D. 1500). The pattern of copper stains on the human remains suggests that the human remains were interred some time after contact. Oral tradition and historical documentation indicate that Hingham, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Hull, MA.

In 1867, human remains representing three individuals that were removed from Atlantic Hill in Hull, Plymouth County, MA, were donated to the Peabody Museum of Archaeology and Ethnology by Jefferies Wyman. The human remains were removed by Mr. Wyman at an unknown date. No known individuals were identified. The five associated funerary objects are four shell-tempered pottery sherds and one stone pestle.

Osteological characteristics indicate that the individuals are Native American. The interments most likely date to the Historic/Contact period (post-A.D. 1500). The pattern of copper stains on some of the human remains from the site indicates that they were interred some time after contact. Shell-tempered pottery in southern New England typically dates to the Late Woodland period and later (post-A.D. 1000). Oral tradition and historical documentation indicate that Hull, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1867, human remains representing one individual that were removed from Nantasket Beach in Hull, Plymouth County, MA, were donated to the Peabody Museum of Archaeology and Ethnology by Jefferies Wyman. The human remains were collected by Mr. Wyman at an unknown date. No known individual was identified. The 16 associated funerary objects are shell-tempered pottery sherds.

Osteological characteristics indicate that the individual is Native American. The interment most likely dates to the Late Woodland period or later (post-A.D. 1000). Shell-tempered pottery in southern New England typically dates to the Late Woodland period and later (post-A.D. 1000). Oral tradition and historical documentation indicate that Hull, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Kingston, MA.

In 1881, human remains representing six individuals were removed from the Patuxet Hotel site in Kingston, Plymouth County, MA, by S.H. Keith and were donated to the Peabody Museum of Archaeology and Ethnology by Mr. Keith in the same year. No known individuals were identified. The 17 associated funerary objects are 1 container of human hair and cloth, 1 container of cloth fragments, 1 container of iron nails, 1 container of wood fragments, 1 container of iron knife fragments, 1 brass spoon, 2 kaolin clay pipes, 3 pieces of lead, 1 stone button mold, 3 lead buttons, and 2 flint flakes.

Osteological characteristics indicate that the individuals are Native American. Museum documentation indicates that the human remains were removed from an “Indian burying ground.” The interments mostly likely date to the Historic/Contact period (post-A.D. 1500). The pattern of copper stains on some of the human remains from the site indicates that they were interred some time after contact. Associated funerary objects, including iron nails, wood fragments (most likely coffin fragments), iron knife fragments, a brass spoon, kaolin clay pipes, pieces of lead, a button mold, buttons, and flint flakes (most likely for European-style firearms), also confirm a postcontact date. Oral tradition and historical documentation indicate that Kingston, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Marion, MA.

In 1884, human remains representing nine individuals were recovered from the Mendell Farm site in Marion, Plymouth County, MA, during a Peabody Museum of Archaeology and Ethnology expedition led by C.A. Studley. No known individuals were identified. The one associated funerary object is a European kaolin pipe. According to museum documentation, coffin nails that are not in the possession of the Peabody Museum of Archaeology and Ethnology were found with the remains of several individuals at the site.

Osteological characteristics indicate that the individuals are Native American. Museum documentation indicates that Mendell Farm is a known Native American burial ground. The interment most likely dates to the Historic/Contact period (post-A.D. 1500). The style of the kaolin pipe found with some of the human remains from the site suggests European manufacture. The presence of coffin nails also confirms a postcontact date. Oral tradition and historical documentation indicate that Marion, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Marshfield, MA.

In 1923, human remains representing one individual were removed from Rexham Terrace in Marshfield, Plymouth County, MA, by Carleton S. Coon, who donated the human remains to the Peabody Museum of Archaeology and Ethnology in the same year. No known individual was identified. No associated funerary objects are present.

The interment most likely dates to the Historic/Contact period (post-A.D. 1500). An osteological examination of the human remains suggests that in terms of overall cranial morphology the human remains closely resemble mixed Native American and African American skeletal morphology, indicating a postcontact date (post-A.D. 1500). Oral tradition and historical documentation indicate that Marshfield, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1940, human remains representing one individual were removed from the South River sand pit in Marshfield, Plymouth County, MA, by Norman Merry, Arthur Chandler, and Superintendent Sherman of Game Farm. In the same year, the human remains were donated to Harvard University’s Department of Legal Medicine, and then to the Peabody Museum of Archaeology and Ethnology. No known individual was identified. No associated funerary objects are present.

Osteological characteristics indicate that the individual is Native American. The interment most likely dates to the Historic/Contact period (post-A.D. 1500). The pattern of copper stains on the human remains indicates that the human remains were interred some time after contact. Oral tradition and historical documentation indicate that Marshfield, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Mattapoisett, MA.

In 1933, human remains representing one individual that were removed from the Herring Weir area of Mattapoisett, Plymouth County, MA, were donated to the Peabody Museum of Archaeology and Ethnology by Raymond Baxter. The human remains were discovered by men working in the area in 1932. No known individual was identified. The 28 associated funerary objects are 18 fragments of a copper kettle, 2 copper sheet fragments, 5 fragments of iron implements, 1 container of red clay, 1 container of skin and bark, and 1 large fragment of a woven bag.

Osteological characteristics indicate that the individual is Native American. The interment most likely dates to the Historic/Contact period (post-A.D. 1500). Museum documentation suggests that the human remains were interred sometime during the Early Historic period, most likely around the mid-17th century. Associated funerary objects that confirm a postcontact date are copper kettle fragments, copper sheet fragments, iron implement fragments, and a woven bag fragment. Oral tradition and historical documentation indicate that Mattapoisett, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Middleboro, MA.

In 1957, human remains representing five individuals that were removed from the Taylor’s Farm site in Middleboro, Plymouth County, MA, were collected by Maurice Robins and were donated to the Peabody Museum of Archaeology and Ethnology by the Massachusetts Archaeological Society in the same year. No known individuals were identified. No associated funerary objects are present.

In 1963, human remains representing four individuals that were removed from the Taylor’s Farm site in Middleboro, Plymouth County, MA, were donated to the Peabody Museum of Archaeology and Ethnology by the Robert S. Peabody Museum of Archaeology, Phillips Academy, Andover, MA, through Douglas S. Byers. The human remains were removed by the Middleboro Chapter of the Massachusetts Archaeological Society at an unknown date. No known individuals were identified. No associated funerary objects are present.

Osteological characteristics indicate that the individuals are Native American. Museum documentation and correspondence from Mr. Robins indicates that there was an old Indian church and burying ground in the vicinity of the Taylor’s Farm site and that the human remains possibly represent those of Christian Indians. The interments most likely date to the Historic/Contact period (post-A.D. 1500). The pattern of copper stains on some of the human remains indicates that the human remains were interred some time after contact. Oral tradition and historical documentation indicate that Middleboro, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Norwell, MA.

In 1936, human remains representing one individual from Norwell, Plymouth County, MA, were discovered by Henry Pinson and were donated to the Peabody Museum of Archaeology and Ethnology by the Boston Society of Natural History, through C.V. MacCoy, in the same year. No known individual was identified. No associated funerary objects are present.

Osteological characteristics indicate that the individual is Native American. The interment most likely dates to the Historic/Contact period (post-A.D. 1500). The pattern of copper stains on the human remains indicates that the human remains were interred some time after contact. Oral tradition and historical documentation indicate that Norwell, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Plymouth, MA.

In 1885, human remains representing four individuals were removed from the Watson’s Hill site in Plymouth, Plymouth County, MA, by F.N. Knapp, J.M. Cobb, and J.C. Kimball and were donated to the Peabody Museum of Archaeology and Ethnology by Mr. Cobb in the same year. No known individuals were identified. The two funerary objects are a chipped stone point and a piece of raw material, possibly ochre.

Osteological characteristics indicate that the individuals are Native American. The interments most likely date to the Late Woodland period or later (post-A.D. 1000). Oral tradition and historical documentation indicate that Watson’s Hill, MA, is a known Late Woodland (A.D. 1000-1500) and Historic/Contact period (post-A.D. 1500) Wampanoag village that is located within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

In 1963, human remains representing one individual that were removed from Nook Farm in Plymouth, Plymouth County, MA, were donated to the Peabody Museum of Archaeology and Ethnology by the Robert S. Peabody Museum of Archaeology, Phillips Academy, Andover, MA. The human remains were removed by Douglas S. Byers and J. Brew in 1940. No known individual was identified. No associated funerary objects are present.

Osteological characteristics indicate that the individual is Native American. The interment most likely dates to the Historic/Contact period (post-A.D. 1500). Documentary evidence supplied by the Robert S. Peabody Museum of Archaeology indicates that Nook Farm is a known Contact period site (post-A.D. 1500). Oral tradition and historical documentation indicate that Plymouth, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

West Wareham, MA.

In 1947, human remains representing four individuals that were removed from a site known as Conant’s Hill, Horseshoe Factory, or Lincoln Hill in West Wareham, Plymouth County, MA, were donated to the Peabody Museum of Archaeology and Ethnology by the Middleboro Chapter of the Massachusetts Archaeological Society. The human remains were collected by John Longyear III and Maurice Robins during excavations by the Massachusetts Archaeological Society prior to 1944. No known individuals were identified. No associated funerary objects are present. According to museum records, a lead ring that was found in association with human remains from the site is not in the possession of the Peabody Museum of Archaeology and Ethnology.

Osteological characteristics indicate that the individuals are Native American. The interments most likely date to the Historic/Contact period (post-A.D. 1500). The presence of the lead ring at the site confirms a postcontact date for the interments. Oral tradition and historical documentation indicate that Wareham, MA, is within the aboriginal and historic homeland of the Wampanoag Nation. The present-day tribes that are most closely affiliated with members of the Wampanoag Nation are the Wampanoag Tribe of Gay Head (Aquinnah) of Massachusetts, Mashpee Wampanoag Indian Tribe (a nonfederally recognized Indian group), and Assonet Band of the Wampanoag Nation (a nonfederally recognized Indian group).

Officials of the Peabody Museum of Archaeology and Ethnology have determined that, pursuant to 25 U.S.C. 3001 (9-10), the human remains described above represent the physical remains of 238 individuals of Native American ancestry. Officials of the Peabody Museum of Archaeology and Ethnology also have determined that, pursuant to 25 U.S.C. 3001 (3)(A), the 127 associated funerary objects described above are reasonably believed to have been placed with or near individual human remains at the time of death or later as part of the death rite or ceremony. Lastly, officials of the Peabody Museum of Archaeology and Ethnology have determined that, pursuant to 25 U.S.C. 3001 (2), there is a relationship of shared group identity that can be reasonably traced between the Native American human remains and associated funerary objects and the Wampanoag Tribe of Gay Head (Aquinnah) of Massachusetts, and there is a cultural relationship between the Native American human remains and associated funerary objects and Mashpee Wampanoag Indian Tribe (a nonfederally recognized Indian group) and Assonet Band of the Wampanoag Nation (a nonfederally recognized Indian group).

Representatives of any other Indian tribe that believes itself to be culturally affiliated with the human remains and associated funerary objects should contact Diana Loren, Acting Repatriation Coordinator, Peabody Museum of Archaeology and Ethnology, Harvard University, 11 Divinity Avenue, Cambridge, MA 02138, telephone (617) 495-4125, before September 15, 2003. Repatriation of the human remains and associated funerary objects to the Wampanoag Repatriation Confederation on behalf of the Wampanoag Tribe of Gay Head (Aquinnah) of Massachusetts, Mashpee Wampanoag Indian Tribe (a nonfederally recognized Indian group), and Assonet Band of the Wampanoag Nation (a nonfederally recognized Indian group) may proceed after that date if no additional claimants come forward.

The Peabody Museum of Archaeology and Ethnology is responsible for notifying the Wampanoag Repatriation Confederation, Wampanoag Tribe of Gay Head (Aquinnah) of Massachusetts, Mashpee Wampanoag Indian Tribe (a nonfederally recognized Indian group), and Assonet Band of the Wampanoag Nation (a nonfederally recognized Indian group) that this notice has been published.

Dated June 20, 2003.
John Robbins,
Assistant Director, Cultural Resources.

[FR Doc. 03-20754 Filed 8-13-03; 8:45 am]

BILLING CODE 4310-70-S